FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 011426-063.

Title: West Coast of South America Discussion Agreement.

Parties: CMA CGM S.A.; Hamburg-Süd; King Ocean Services Limited, Inc.; and Seaboard Marine Ltd.

Filing Party: Wayne R. Rohde, Esq.; Cozen O'Conner; 1200 Nineteenth Street NW., Washington, DC 20036.

Synopsis: The amendment deletes MSC Mediterranean Shipping Company, SA as a party to the agreement.

Agreement No.: 012337-001.

Title: HSDG/Zim ECSA Space Charter Agreement.

Parties: Hamburg Sud; and Zim Integrated Shipping Services, Ltd.

Filing Party: Wayne R. Rohde, Esq.; Cozen O'Conner; 1200 Nineteenth Street NW., Washington, DC 20036.

Synopsis: This amendment revises the Agreement to add an expiration date of December 27, 2017.

By Order of the Federal Maritime Commission.
Dated: May 5, 2017.
Rachel E. Dickon,
Assistant Secretary.

[FR Doc. 2017-09481 Filed 5-9-17; 8:45 am]

BILLING CODE 6731-AA-P